DEPARTMENT OF DEFENSE

Office of the Secretary

Defense Science Board

AGENCY: Department of Defense.

ACTION: Notice of advisory committee meeting date change.

SUMMARY: On Friday, December 14, 2001 (66 FR 64810), the Department of Defense announced closed meeting of the Defense Science Board (DSB) Task Force on Defense Against Terrorists' Use of Biological Weapons. One of the announced meetings has been rescheduled from February 18-19, 2002, to February 19-20, 2002, due to the holiday. The meeting will be held at Strategic Analysis Inc., 3601 Wilson Boulevard, Suite 600, Arlington, VA.

Dated: January 28, 2002.
Patricia L. Toppings,
Alternate OSD Federal Register Liaison Officer, Department of Defense.

[FR Doc. 02-2591 Filed 2-1-02; 8:45 am]

BILLING CODE 5001-08-M